DEPARTMENT OF HEALTH AND HUMAN SERVICES

Administration for Children and Families

Proposed Information Collection Activity; Comment Request

Proposed Projects

Title: Head Start Program Information Report (PIR).

OMB No.: 0980-0017.

Description: The Head Start Act requires that actual population and services data be collected from Head Start and Early Head Start grantees and delegate agencies. The Head Start Program Information Report (PIR) is the primary tool for collecting information in the areas of program management, services provided, and the demographics of the children enrolled and their families. The principle users of the data include local program management, ACF Regional Office staff, and ACYF Central Office staff. The information is disseminated widely to other interested parties, including Congress, policy makers at the State level, training and technical assistance providers, and researchers.

Respondents: Head Start grantees and delegate agencies; Early Head Start grantees and delegate agencies.

Annual Burden Estimate:

Instrument | Number of respondents | Number of responses per respondent | Average burden hours per response | Total burden hours
PIR | 2437 | 1 | 4 | 9748

Estimated Total Annual Burden Hours: 9748.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 22, 2001.
Bob Sargis,
Reports Clearance Officer.

[FR Doc. 01-13317 Filed 5-25-01; 8:45 am]

BILLING CODE 4184-01-M